DEPARTMENT OF TRANSPORTATION

Research and Special Programs Administration

[Docket No. RSPA-03-14793; Notice No. 03-5]

Safety Advisory: Unauthorized Marking of Compressed Gas Cylinders

AGENCY: Research and Special Programs Administration (RSPA), DOT.

ACTION: Safety advisory notice.

SUMMARY: This is to notify the public that RSPA is investigating the possible unauthorized marking of high-pressure compressed gas cylinders by ABM Fire Equipment, 73 North Main Street, Milford, NY 13807. RSPA has evidence that suggests ABM Fire Equipment marked, certified and returned to service an undetermined number of high-pressure DOT specification and exemption cylinders as being properly requalified in accordance with the Hazardous Materials Regulations (HMR), when the cylinders may not have been hydrostatically retested and visually inspected.

A hydrostatic retest and visual inspection, conducted as prescribed in the HMR, are used to verify the structural integrity of a cylinder. If the hydrostatic retest and visual inspection are not performed in accordance with the HMR, a cylinder with compromised structural integrity may be returned to service when it should be condemned. Extensive property damage, serious personal injury, or death could result from rupture of a cylinder. Cylinders that have not been requalified in accordance with the HMR may not be charged or filled with compressed gas or other hazardous material and offered for transportation in commerce.

FOR FURTHER INFORMATION CONTACT: Dave Clark, Hazardous Materials Enforcement Specialist, Eastern Region, Office of Hazardous Materials Enforcement, Research and Special Programs Administration, U.S. Department of Transportation, 820 Bear Tavern Road, Suite 306, West Trenton, NJ 08628. Telephone: (609) 989-2256, Fax: (609) 989-2277.

SUPPLEMENTARY INFORMATION: Through its investigation of ABM Fire Equipment, RSPA believes that ABM Fire Equipment marked, certified and returned to service an undetermined number of high-pressure cylinders as having been properly requalified in accordance with the HMR without conducting proper testing of the cylinders. Furthermore, RSPA discovered that ABM Fire Equipment did not maintain any retest or reinspection records for the high-pressure cylinders at issue. In addition, RSPA believes that ABM Fire Equipment marked an undetermined number of cylinders with the Requalification Identification Number (RIN) of another company. The HMR require that a cylinder retester obtain a RIN from RSPA. ABM Fire Equipment has never received authorization from RSPA to requalify high-pressure cylinders. On December 9, 2002, ABM Fire Equipment obtained authorization to requalify low-pressure cylinders under RIN D987.

The high-pressure cylinders in question are stamped with RIN A471 in the following pattern:

A 4

M Y

1 7

M is the month of retest (e.g., 10), and Y is the year of the retest (e.g., 03).

RSPA issued RIN A471 to Automatic Protection Systems Corp., 410 South Enterprise Parkway, Corpus Christi, Texas, on March 24, 1980. Automatic Protection Systems last renewed its RIN on January 25, 2001, and is the only authorized user of that RIN. Cylinders serviced and marked by Automatic Protection Systems of Corpus Christi, Texas are not covered by this safety advisory.

RSPA believes that ABM Fire Equipment routinely marked cylinders with RIN A471, as far back as June 1991. This safety advisory covers all high-pressure cylinders that have ever been marked and certified as having been requalified by ABM Fire Equipment, and all low-pressure cylinders marked as having been requalified by ABM Fire Equipment prior to December 9, 2002. These cylinders may pose a safety risk to the public and should be considered unsafe for use in hazardous materials service. Furthermore, cylinders described in this safety advisory should not be filled with a hazardous material unless the cylinders are first properly retested by a DOT-authorized retest facility.

Cylinders described in this safety advisory that are filled with an atmospheric gas should be vented or otherwise safely discharged, and then taken to a DOT-authorized cylinder retest facility for proper requalification to determine compliance with the HMR and the cylinders' suitability for continuing service. Cylinders described in this safety advisory that are filled with a material other than an atmospheric gas should not be vented, but instead should be safely discharged, and then taken to a DOT-authorized cylinder retest facility for proper requalification to determine compliance with the HMR and the cylinders' suitability for continuing service. Mr. Clark can provide a list of authorized retest facilities in your area, or you may obtain the list at the following Web site: http://hazmat.dot.gov. Cylinders described in this safety advisory should not be filled, refilled or used for their intended purposes until they are reinspected and retested by a DOT-authorized retest facility.

RSPA requests that any person possessing a cylinder described in this safety advisory telephone or provide a facsimile to Mr. Clark with the following information for each cylinder: (1) The cylinder manufacturer's name, (2) the serial number of the cylinder, (3) the DOT specification or exemption information marked on the cylinder, (4) the month and year of the last marked requalification by ABM Fire Equipment, and (5) the location of the cylinder.

Issued in Washington, DC on June 19, 2003.
Robert A. McGuire,
Associate Administrator for Hazardous Materials Safety.

[FR Doc. 03-16003 Filed 6-24-03; 8:45 am]

BILLING CODE 4910-60-P